ENVIRONMENTAL PROTECTION AGENCY

[OPPT-2002-0001; FRL-7298-5]

Request for Nominations to the National Pollution Prevention and Toxics Advisory Committee (NPPTAC)

AGENCY: Environmental Protection Agency (EPA).

ACTION: Request for nominations.

SUMMARY: EPA is inviting nominations of qualified candidates to consider for appointment to the National Pollution Prevention and Toxics Advisory Committee (NPPTAC or Committee). The purpose of NPPTAC will be to provide advice and recommendations to EPA regarding the overall policy and operations of the programs of the Office of Pollution Prevention and Toxics (OPPT).

DATES: Nominations will be accepted until 5 p.m. on May 2, 2003.

ADDRESSES: Nominations may be submitted electronically, by mail, or through hand delivery/courier. Follow the detailed instructions as provided in Unit I.C. of the SUPPLEMENTARY INFORMATION. To protect personal information from disclosure to the public do not submit nominations materials to the NPPTAC Docket or through any online electronic commenting system.

FOR FURTHER INFORMATION CONTACT: For general information contact: Barbara Cunningham, Acting Director, Environmental Assistance Division (7404M), Office of Pollution Prevention and Toxics, Environmental Protection Agency, 1200 Pennsylvania Ave., NW., Washington, DC 20460; telephone number: (202) 564-1404; e-mail address: TSCA-Hotline@epa.gov.

For technical information contact: Mary Hanley, Designated Federal Official, Environmental Assistance Division (7401M), Office of Pollution Prevention and Toxics, Environmental Protection Agency, 1200 Pennsylvania Ave., NW., Washington, DC 20460; telephone (202) 564-9891, fax (202) 564-0575; e-mail address: npptac.oppt@epa.gov.

SUPPLEMENTARY INFORMATION:

I. General Information

A. Does this Action Apply to Me?

This action is directed to the public in general. This action may, however, be of particular interest to those persons who have an interest in or may be required to manage pollution prevention and toxics programs, or individuals or groups concerned with children's health, animal welfare, or other members of the general public. Since various individuals or groups may be interested, the Agency has not attempted to describe all the specific entities that may be affected by this action. If you have any questions regarding this action, please consult the contact the technical person listed under FOR FURTHER INFORMATION CONTACT.

B. How Can I Get Additional Information, Including Copies of this Document or Other Related Documents?

1. Electronically. You may access this Federal Register document electronically through the EPA Internet under the “Federal Register” listings at http://www.epa.gov/fedrgstr/.

Information about the Office of Pollution Prevention and Toxic Substances (OPPTS), and OPPTS related programs is available from http://www.epa.gov/opptintr/.

EPA has established an official public docket for the NPPTAC under docket identification (ID) number OPPT-2002-0001. The official public docket consists of the documents related to the activities of the committee and any public comments received. Although a part of the official docket, the public docket does not include Confidential Business Information (CBI) or other information whose disclosure is restricted by statute. To protect personal information from disclosure to the public do not submit nominations materials in response to this Notice to the docket or through any online electronic commenting system. Instead, follow the instructions listed under Unit I.C.

An electronic version of the public docket is available through EPA's electronic public docket and comment system, EPA Dockets. You may use EPA Dockets at http://www.epa.gov/edocket/ to access the index listing of the contents of the official public docket, and to access those documents in the public docket that are available electronically. Although not all docket materials may be available electronically, you may still access any of the publicly available docket materials through the docket facility identified in Unit I.B.1. Once in the system, select “search,” then key in the appropriate docket ID number.

2. In person. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

3. By mail. You may obtain copies of this document and other related documents from the technical contact person listed under FOR FURTHER INFORMATION CONTACT.

C. How Can I Nominate Potential Members to this Committee?

You may nominate qualified persons for membership to this Committee electronically, by mail, or in person. Nominations for membership should be submitted by the nominating organization, and must include a curriculum vitae of the nominee detailing his or her specific area of relevant expertise, as described below in Unit I.D., and a designation of the type of organization the candidate represents according to Unit II.C.

To protect personal information from disclosure to the public do not submit nominations materials to the NPPTAC Docket or through any online electronic commenting system. Submit your nomination, marked “Attention NPPTAC Nominations” by one of these methods:

1. Electronically: npptac.oppt@epa.gov.

2. By mail: Environmental Protection Agency, Confidental Business Information (CBIC), Mail Code 7407M, 1200 Pennsylvania Ave, NW., Washington DC, 20460.

3. By courier: Environmental Protection Agency, Confidential Business Information Center (CBIC), EPA East Building, Room 6428, 1201 Constitution Ave., Washington, DC 20004-3302, contact phone numbers: 202-564-8930 and 202-564-8940. The room at which submissions are accepted is only open until 4 p.m. If a courier service comes after that time the service will be turned away. Non-uniformed (bicycle, etc.) couriers will be met at the 1201 Constitution Ave. entrance by CBIC personnel. Uniformed couriers are admitted to deliver directly to the CBIC.

D. What Should I Consider When Making Nominations?

Potential candidates should have demonstrated leadership experience with environmental or public health policy, or issues, or research associated with chemicals, pollution prevention, human health, or the environment in State, national or international arenas.

Types of expertise might include:

• Chemistry

• Pollution prevention

• Toxicology

• Ecology

• Environmental science

• Risk assessment

• Risk communication

• Risk management

• Public health

• Environmental policy

• Environmental justice

• Socio-economic analysis

• Public health policy

• Animal welfare

Candidates with interdisciplinary training or experience are strongly encouraged to apply.

In addition, Committee candidates should be willing to:

• Commit to attend three meetings per year for 2 years, most of them in Washington, DC.

• Constructively assess OPPT programs and work collaboratively with fellow committee members to help OPPT be responsive to the needs of the affected public, non-governmental organizations, industry organizations, and State, Tribal, and local governments.

• Serve also on a subcommittee or working group, as needed.

Also, nominees not selected for the Committee may be considered for membership on subcommittees or working groups.

When making your nomination, please classify the candidate with respect to the types of organizations represented in Unit II.C. and identify the types of experience of the candidate according to the list above, including interdisciplinary training or experience.

II. Background

A. Introduction

EPA's OPPT is entrusted with the responsibility of ensuring that chemicals made available for sale and use in the United States do not pose any unreasonable risks to human health or to the environment. In addition, OPPT promotes pollution prevention as the national policy for controlling industrial pollution at its source.

OPPT focuses on the following four components: Promoting pollution prevention as the guiding principle for controlling industrial pollution; promoting safer chemicals through a combination of regulatory and voluntary efforts; promoting risk reduction to minimize exposure to existing substances such as lead, asbestos, mercury, perfluorooctyl sulfonate (PFOS), and promoting public understanding of risks by providing understandable, accessible, and complete information on chemical risks to the broadest audience possible.

While there are both formal and informal mechanisms in place to involve the public in OPPT decision-making activities, NPPTAC will bring together a broad cross-section of knowledgeable individuals from organizations representing diverse views to discuss regulatory, policy, and implementation issues. Dialogue with outside groups is essential if OPPT is to be responsive to the needs of the affected public; non-governmental organizations; industry organizations; and State, Tribal, and local governments.

B. Committee Purpose

NPPTAC is being established under the Federal Advisory Committee Act (FACA), 5 U.S.C. App. 2 (Public Law 92-463), and copies of the Committee Charter have been filed with the appropriate committees of Congress and the Library of Congress. NPPTAC will provide advice and recommendations to the Agency regarding the overall policy and operations of OPPT programs. NPPTAC shall hold meetings, analyze issues, conduct reviews, produce reports, make necessary recommendations, and undertake other activities necessary to meet its responsibilities. The objectives of this Committee are to provide advice and recommendations to EPA in areas such as:

1. Risk assessment/management. Policies for implementation of regulatory and voluntary programs that are intended to identify, reduce, or eliminate potentially unreasonable risks. This may include such issues as gathering information and data relevant to the assessment of risks, including hazard and exposure information related to a particular chemical substance, as well as methods for evaluating, managing, and reducing potential risks. This would include policies for implementation of OPPT programs such as the High Production Volume (HPV) Challenge Program, the Voluntary Children's Health Testing Chemical Evaluation Program (VCCEP), and the Chemical Right-to-Know (ChemRTK) Initiative, as well as the establishment of policies to guide national program chemicals risk management activities for chemicals such as asbestos, lead, polychlorinated biphenyls, PFOS, and mercury.

2. Risk communication. Means to promote the public's right to know about chemicals in their communities, including risk communication and access to Agency information systems.

3. Pollution prevention. Policies to guide the chemical pollution prevention priorities and multimedia activities, including OPPT programs such as the Persistent Bioaccumulative and Toxic Initiative (PBTI), Green Chemistry, and the Design for the Environment (DfE) Program.

4. Coordination. EPA's framework for integrating its TSCA and pollution prevention programs with other EPA and other Federal, State, Tribal, and local government programs, and coordinating with non-governmental organizations, such as public health organizations, environmental justice organizations, children's advocates, animal welfare groups, industry, environmental organizations, and international groups, to ensure full input into the decision-making.

5. Other issues as identified by EPA related to policies and the implementation of related programs within OPPT. The Committee's activities will include efforts to provide advice on regulatory and non-regulatory approaches, develop options and, where appropriate, more clearly define critical policy and technical issues.

C. Composition and Organization

1. Membership. The Committee will be composed of approximately 15 members. EPA will have a balanced representation of members in terms of the points of view represented and the scope of activities of NPPTAC. An EPA employee will act as the Designated Federal Official (DFO) who will be responsible for providing the necessary staffing, operations, and support for the Committee.

The Agency is seeking qualified senior-level decision-makers from diverse sectors throughout the United States to be considered for membership on the Committee. The Agency is seeking representation from among the type of organizations listed below. Please indicate in your submittal the sector with which your nomination is most closely associated:

• State and local government agency.

• Federally recognized Tribe.

• Public health or environmental professional.

• Chemical manufacturer and/or user.

• Non-governmental organization, such as environmental group, environmental justice organization, children's advocate, and animal welfare organization.

• Other non-governmental entity, as deemed appropriate.

Establishing a balance and diversity of experience, knowledge, and judgement in membership is an important consideration in the selection of members.

In addition, the Committee will have up to approximately 15 technical advisors who will be Federal employees or national experts that will provide technical advice to the Committee. Technical advisors for the Committee may include representatives from the Occupational Safety and Health Administration (OSHA), Consumer Product Safety Commission (CPSC), and such additional officials of the U.S. Government who might be necessary for the Committee to carry out its functions.

2. Subcommittees and workgroups. Subcommittees and workgroups may be established on an as-needed basis consisting of Committee members, or supplemented with individuals qualified in the area of the subcommittee or workgroup.

3. Meetings and public involvement. All Committee meetings will be called, announced, and held in accordance with FACA requirements, including public notice of meetings in the Federal Register, open meetings, and an opportunity for interested persons to file comments before or after meetings, or to make statements during the public meetings to the extent time permits.

List of Subjects

Environmental protection, Chemicals, Chemical health and safety, Pollution prevention, National Pollution Prevention and Toxics Advisory Committee.

Dated: March 25, 2003.
Susan B. Hazen,
Assistant Administrator, Office of Prevention, Pesticides and Toxic Substances.

[FR Doc. 03-7978 Filed 4-1-03; 8:45 am]

BILLING CODE 6560-50-S